DEPARTMENT OF THE INTERIOR

Bureau of Land Management

[AZ 050-04-1610-DO; 1610]

Arizona: Notice of Intent To Prepare a Resource Management Plan and Environmental Impact Statement for the BLM Yuma Field Office

AGENCY: Bureau of Land Management, Interior.

ACTION: Notice of intent.

SUMMARY: The Bureau of Land Management (BLM), Yuma Field Office intends to prepare a Resource Management Plan (RMP) with an associated Environmental Impact Statement (EIS) for the public lands located within the boundaries of the Yuma Field Office. The revised Yuma RMP will replace portions of the existing Yuma District Resource Management Plan (1987), portions of the Lower Gila South Resource Management Plan (1988), and portions of the Lower Gila North Management Framework Plan (1983). Public scoping meetings to identify relevant issues will be announced in advance through BLM's Web site and in local news media.

DATES: The scoping comment period commences with the publication of this notice and will continue for at least 60 days. Public meetings will be held during the spring of 2004. Public notice will be provided specifying when the meetings will occur and will include notification of when the scoping period will close.

ADDRESSES: Yuma Resource Management Plan—Bureau of Land Management, Yuma Field Office, 2555 E. Gila Ridge Rd., Yuma, AZ 85365. Use the above mailing address to mail or hand deliver written comments; additionally, comments can be faxed to (928) 317-3250.

FOR FURTHER INFORMATION CONTACT: For further information and/or to have your name added to our mailing list, contact Micki Bailey, Yuma Field Office, 2555 E. Gila Ridge Rd., Yuma, AZ 85365, telephone (928) 317-3215.

SUPPLEMENTARY INFORMATION: This document provides notice that the BLM Yuma Field Office, Yuma, Arizona, intends to prepare an RMP with an associated EIS for the public lands within the boundaries of the Yuma Field Office. The RMP/EIS will fulfill the needs and obligations set forth by the National Environmental Policy Act (NEPA), the Federal Land Policy and Management Act (FLPMA), other laws, regulations, and BLM management policies. The BLM will work closely with interested parties to identify the management decisions that are best suited to the needs of the public. This collaborative process will take into account local, regional, and national needs and concerns. The first phase of the planning process is scoping which includes the identification of issues that should be addressed in the planning process and development of planning criteria.

The Yuma Field Office area encompasses 1.2 million acres along the lower Colorado River in southwest Arizona and southeast California, extending eastward into Arizona. The public lands are configured in an area 155 miles long and up to 90 miles wide. This area extends northward along the lower Colorado River from the Southern International Boundary at San Luis, Arizona, to north of Blythe, California, and Ehrenberg, Arizona. The Yuma Field Office boundary extends eastward to the Eagletail Mountains Wilderness Area and south along the Yuma and Maricopa county line to the northern boundary of the Barry Goldwater Range. The planning area is located in Yuma, La Paz, and Maricopa Counties in Arizona; and Imperial and Riverside Counties in California. The purpose of the public scoping process is to determine relevant issues that will influence the scope of the environmental analysis and EIS alternatives. These issues also guide the planning process. Comments, including names and street addresses of respondents, will be available for public review at the BLM Yuma Field Office at the above address during regular business hours, 7:45 a.m. to 4:30 p.m., Monday through Friday, except holidays, and may be published as part of the EIS. Documents relevant to the planning effort may be examined during normal business hours, Monday through Friday, at the BLM Yuma Field Office at the above address. Individual respondents may request confidentiality. If you wish to withhold your name or street address from public review or from disclosure under the Freedom of Information Act, you must state this prominently at the beginning of your comment. Such requests will be honored to the extent allowed by law. All submissions from organizations and businesses, and from individuals identifying themselves as representatives or officials of organizations or businesses, will be available for public inspection in their entirety.

Public meetings will be held throughout the planning process. In order to ensure local community participation and input, public meetings will occur in many cities and towns within the planning area, which include Dateland, Quartzsite, San Luis, Somerton, Wellton, and Yuma, Arizona; and Blythe, California. Early participation by all those interested is encouraged and will help determine the future management of the public lands. At least 15 days public notice will be given for activities where the public is invited to attend. Meetings and comment deadlines will be announced through the local news media and newsletters. In addition to the ongoing public participation process, formal opportunities for public participation will be provided upon publication of the Draft RMP/Draft EIS.

Preliminary issues and management concerns have been identified by BLM personnel, other agencies, and in meetings with individuals and user groups. This represents the BLM's knowledge to date on the existing issues and concerns with current management. Additional issues and refinement of known issues will be identified during public scoping. The major issues that will be addressed during the planning process include, but are not limited to, management of public land resources including natural resource management; cultural resource management and protection; recreation/visitor use and safety; access and transportation on the public lands; location and management of utility corridors; management of grazing, mining, mineral materials, and other uses; and better coordination of public land management, local community, tribal, and other agency needs and plans.

After gathering public comments on what issues the plan should address, the suggested issues will be placed in one of four categories:

1. How do we best protect and manage the natural, biological, and cultural resources on the public lands?

2. What resource uses are appropriate for the Yuma Field Office? How should public use activities be managed?

3. How do we evaluate public lands under appropriate designations?

4. How do we coordinate public land management with other agency and community plans?

In addition to these major issues, a number of management questions and concerns will be addressed in the plan. The public is encouraged to help identify management concerns during the scoping phase.

An interdisciplinary approach will be used to develop the plan in order to consider the variety of resource issues and concerns identified. Disciplines involved in the planning process will include rangeland management, minerals and geology, outdoor recreation, archaeology, wildlife, wilderness, lands and realty, hydrology, soils, sociology, and economics. Where necessary, outside expertise may be used.

Dated: January 29, 2004.
Thomas Zale,
Acting Field Manager, Yuma.

[FR Doc. 04-6997 Filed 3-29-04; 8:45 am]

BILLING CODE 4310-32-P